SMALL BUSINESS ADMINISTRATION

[Declaration of Disaster #3376]

State of Mississippi (And Contiguous Counties in the State of Tennessee)

Alcorn County and the contiguous Counties of Prentiss, Tippah and Tishomingo in the State of Mississippi; and Hardeman, Hardin and McNairy Counties in the State of Tennessee constitute a disaster area due to damages caused by heavy rainfall and flooding that occurred on October 13, 2001. Applications for loans for physical damage as a result of this disaster may be filed until the close of business on January 15, 2002 and for economic injury until the close of business on August 16, 2002 at the address listed below or other locally announced locations:

U.S. Small Business Administration, Disaster Area 2 Office, One Baltimore Place, Suite 300, Atlanta, GA 30308.

The interest rates are:

For Physical Damage

Homeowners with credit available elsewhere: 6.500%

Homeowners without credit available elsewhere: 3.250%

Businesses with credit available elsewhere: 8.000%

Businesses and non-profit organizations without credit available elsewhere: 4.000%

Others (including non-profit organizations) with credit available elsewhere: 6.375%

For Economic Injury

Businesses and small agricultural cooperatives without credit available: elsewhere 4.000%

The numbers assigned to this disaster for physical damage are 337606 for Mississippi and 337706 for Tennessee. For economic injury, the numbers are 9N5300 for Mississippi and 9N5400 for Tennessee.

(Catalog of Federal Domestic Assistance Program Nos. 59002 and 59008)
Dated: November 16, 2001.
Hector V. Barreto,
Administrator.

[FR Doc. 01-29297 Filed 11-23-01; 8:45 am]

BILLING CODE 8025-01-P